DEPARTMENT OF DEFENSE

Department of the Navy

Notice of Public Hearing for the Draft Environmental Impact Statement for the TRIDENT Support Facilities Explosives Handling Wharf, Naval Base Kitsap Bangor, Silverdale, Kitsap County, WA

AGENCY: Department of the Navy, DoD.

ACTION: Notice.

SUMMARY: Pursuant to section 102(2)(c) of the National Environmental Policy Act (NEPA) and the Council on Environmental Quality Regulations for implementing the procedural provisions of NEPA (Title 40 Code of Federal Regulations Parts 1500-1508), the Department of the Navy (Navy) has prepared and filed with the U.S. Environmental Protection Agency a Draft Environmental Impact Statement (EIS) to evaluate the potential environmental effects of constructing and operating a second Explosives Handling Wharf (EHW-2) at Naval Base Kitsap Bangor (NBK Bangor), Silverdale, WA. The U.S. Army Corps of Engineers (USACE) and the National Marine Fisheries Service (NMFS) are cooperating agencies for the EIS.

The Navy will conduct three public hearings to receive oral and written comments on the Draft EIS. Federal, State, and local agencies, elected officials, and other interested individuals and organizations are invited to be present or represented at the public hearings. This notice announces the dates and locations of the public hearings for this Draft EIS.

Dates and Addresses: Public hearings will be held on the following dates and locations:

1. April 19, 2011, at the North Kitsap High School Commons, 1780 Northeast Hostmark Street, Poulsbo, WA 98370;

2. April 20, 2011, at the Chimacum High School, 91 West Valley Road, Chimacum, WA 98325; and

3. April 21, 2011, at the Seattle Central Library, 1000 Fourth Avenue, Seattle, WA 98104.

All meetings will start with an open house session from 6 p.m. to 7:30 p.m. followed by a presentation and public comment period from 7:30 p.m. to 9 p.m. The open house sessions will allow individuals the opportunity to review summaries of the information presented in the Draft EIS. Navy representatives will be available during the open house sessions to clarify information related to the Draft EIS.

FOR FURTHER INFORMATION CONTACT: Naval Facilities Engineering Command Northwest, 1101 Tautog Circle, Silverdale, WA 98315-1101, Attn: Christine Stevenson, EHW-2 EIS Project Manager; or http://ehw.nbkeis.com.

SUPPLEMENTARY INFORMATION: A Notice of Intent to prepare this Draft EIS was published in the Federal Register on May 15, 2009 (74 FR 22900). Three public scoping meetings were held in Poulsbo, Port Ludlow, and Seattle, WA. The first public scoping meeting was held on June 23, 2009, at the Poulsbo Fire Station Main Headquarters, 911 Northeast Liberty Road, Poulsbo, WA. The second public scoping meeting was held on June 24, 2009, at the Port Ludlow Fire Station 31, 7650 Oak Bay Road, Port Ludlow, WA. The third public scoping meeting was held on June 25, 2009, at the Starbucks Corporate Headquarters, 2401 Utah Avenue South, 3rd Floor, Seattle, WA. The meeting was originally scheduled to be held at the John Stanford Center for Educational Excellence, 2445 3rd Avenue South, Seattle, WA but was relocated due to unforeseen venue cancellation. Notifications were made to the media immediately upon reserving the new venue and handouts with the new location were distributed to those arriving at the John Stanford Center for Educational Excellence.

The proposed action is to construct and operate an EHW-2 adjacent to, but separate from, the existing Explosives Handling Wharf (EHW-1) at the NBK Bangor waterfront. The proposed action consists of in-water and land-based construction and operations. NBK Bangor, located on Hood Canal approximately 20 miles west of Seattle, provides berthing and support services for OHIO Class ballistic missile submarines, hereafter referred to as TRIDENT submarines. As part of the Navy's sea-based strategic deterrence mission, the Navy Strategic Systems Programs (SSP) directs research, development, manufacturing, test, evaluation, and operational support of the TRIDENT Fleet Ballistic Missile program. SSP is the action proponent and the Navy is the lead agency for this project.

The purpose for the proposed action is to support future TRIDENT program requirements for TRIDENT submarines currently homeported at NBK Bangor and the TRIDENT II (D5 missile) Strategic Weapons System. The proposed action is needed to support TRIDENT program requirements of 400 operational days per year. The EHW-1 currently provides approximately 200 operational days per year due to required facility preventative maintenance and pile replacement. The Navy anticipates that after pile replacement concludes in 2024, the EHW-1 will provide approximately 300 operational days per year. The proposed EHW-2 would provide 300 operational days per year. Therefore, EHW-1 and the proposed EHW-2 would provide a total available capacity of approximately 500-600 operational days per year. The proposed EHW-2 would be designed to meet all TRIDENT program requirements.

SSP evaluated a range of alternatives that would meet action objectives, and applied screening criteria to identify those alternatives that were “reasonable” (i.e., practical and feasible). Screening criteria included: capability for meeting TRIDENT mission requirements; ability to avoid or minimize environmental impacts; siting requirements including proximity to existing infrastructure; availability of waterfront property; constructability of essential project features; and explosives safety restrictions. Reasonable alternatives were carried through the Draft EIS analysis.

The Draft EIS considers six alternatives including the No Action Alternative. Alternatives include in-water and land-based components such as the wharf, access trestles, an abutment where the trestles connect to the shore, extension of an existing paved road, construction of a new upland gravel access road, and an upland construction staging area. The wharf proper (excluding access trestles) would lie approximately 600 feet offshore at water depths of 60 feet to 100 feet, and would consist of a covered ordnance handling area, a warping wharf, and lightning protection towers. A warping wharf is a long narrow wharf extension used to position submarines prior to moving into the operations area of the EHW-2.

The six alternatives considered in this Draft EIS are as follows:

(1) Alternative 1 (Combined Trestle, Large Pile Wharf)—access trestles would be combined over shallow water to reduce impacts to shallow-water habitat and resources. The wharf would be supported primarily on large (up to 48-inch diameter) piles and smaller (24-inch to 36-inch diameter) piles. Alternative 1 is the preferred alternative.

(2) Alternative 2 (Combined Trestle, Conventional Pile Wharf)—access trestles would be combined as for Alternative 1 but would use a conventional pile wharf supported on a larger number of smaller piles (24-inch to 36-inch diameter). The dimensions of the conventional pile wharf would be the same as the large pile wharf. Pile driving would take longer than for Alternative 1.

(3) Alternative 3 (Separate Trestles, Large Pile Wharf)—access trestles would be completely separate. There would be more trestle piles and greater overwater area, including more area over shallow water. The large pile wharf would be the same as for Alternative 1.

(4) Alternative 4 (Separate Trestles, Conventional Pile Wharf)—access trestles would be separate as for Alternative 3 and would use a conventional pile wharf as for Alternative 2.

(5) Alternative 5 (Combined Trestle, Floating Wharf)—access trestles would be combined as for Alternatives 1 and 2. This alternative would employ a floating wharf rather than a pile-supported wharf. The wharf would be supported on large concrete pontoons and connected to mooring dolphins. The floating wharf would be larger than the pile-supported wharves and would entail considerably fewer piles than Alternatives 1 through 4.

(6) No Action Alternative—there would be no construction or operation of the EHW-2. The Navy would not have the required facilities to perform routine operations and upgrades required to maintain the current fleet of TRIDENT submarines at NBK Bangor through 2042, the life of the current TRIDENT weapons systems. The No Action Alternative is considered in accordance with Section 1502.14(d) of the NEPA regulation.

The Draft EIS evaluates the potential environmental effects associated with the construction and operation of the EHW-2 at NBK Bangor, WA. Alternatives were evaluated within several environmental resource areas including marine, upland, and social environments. These resource areas include: hydrography (currents and tides), water quality, sediment, underwater noise, marine vegetation, plankton, benthic communities including shellfish, marine fish, marine mammals, marine birds, threatened and endangered species, geology and soils, surface water and groundwater, vegetation, wetlands, wildlife, noise, air quality, cultural resources, American Indian traditional resources, coastal and shoreline management, land use and recreation, aesthetics, socioeconomics, utilities and energy, transportation, and public health and safety. Methods to reduce or minimize impacts to affected resources are addressed. The analysis includes an evaluation of the direct, indirect, and cumulative impacts.

All action alternatives would have the same types of environmental impacts; however, the magnitude of these impacts would vary among the alternatives. The principal types of marine impacts during project construction would include pile driving noise (and its effects on marine biota) and turbidity. In the long term, impacts would include loss and shading of marine habitat including eelgrass, macroalgae and benthic community, and interference with the migration of juvenile salmon, some species of which are protected under the Endangered Species Act (ESA). All action alternatives would have the potential to adversely affect fish and bird species protected under the ESA, and marine mammals (behavioral disturbance) protected under the ESA and the Marine Mammal Protection Act (MMPA). Injury is not expected to any marine mammal or bird. Upland construction would result in permanent and temporary impacts to forest, shrub lands, and wetlands; however, most areas would be replanted following construction and mitigation would offset the permanent loss of the wetland area. Wildlife would be disturbed by construction noise, especially pile driving, but no terrestrial animals or plants protected under the ESA, the Migratory Bird Treaty Act, or Bald and Golden Eagle Protection Act would be affected. Measures are proposed to mitigate these impacts. Recreational and residential areas would be disturbed by pile driving noise. Mitigation measures would be implemented to minimize impacts from pile driving noise. Construction barges could affect marine traffic in Hood Canal and would affect vehicle traffic on the Hood Canal Floating Bridge. Mitigation measures would be implemented to minimize impacts from marine construction traffic.

In accordance with Section 7 of the ESA, the Navy is consulting with NMFS and the U.S. Fish and Wildlife Service for potential impacts to Federally listed species. The Navy is also consulting with NMFS regarding potential effects on Essential Fish Habitat under the Magnuson Stevens Fishery Conservation and Management Act, and working with NMFS to ensure compliance with the MMPA. The Navy will submit an application to the USACE for a permit under Section 10 of the Rivers and Harbors Act, and Section 404 of the Clean Water Act. Navy analysis has indicated that under the Clean Air Act requirements, air pollutant emissions would not exceed thresholds for a major source for any alternative. Under all action alternatives, the setting of the EHW-1, which is eligible for listing under the National Register of Historic Places, would be adversely affected by the proposed action; however, the Navy will consult with the State Historic Preservation Officer (SHPO) and develop a mitigation plan. There would be a small potential for disturbance of archaeological resources during construction; if any such resources were encountered, the Navy would coordinate with the SHPO and affected American Indian Tribes. Access to Tribal fishing areas would not be affected by any alternative; however, implementation of the proposed action would adversely affect fish, which are Tribal treaty reserved resources. The Navy is conducting government-to-government consultation with the potentially affected Tribes. Mitigation is included as part of the proposed action to address the impacts to these aquatic resources.

The decision to be made by the Navy is to determine which of the alternatives analyzed in the EIS to implement, based upon reasonably foreseeable environmental impacts and operational needs.

The Draft EIS was distributed to Federal, State, and local agencies, elected officials, and other interested individuals and organizations. The public comment period will end on May 2, 2011. Copies of the Draft EIS are available for public review at the following libraries:

1. Jefferson County Rural Library, 620 Cedar Avenue, Port Hadlock, WA 98339;

2. Port Townsend Public Library, 1220 Lawrence Street, Port Townsend, WA 98368;

3. Poulsbo Library, 700 Northeast Lincoln Road, Poulsbo, WA 98370;

4. Silverdale Library, 3450 NW Carlton Street, Silverdale, WA 98383;

5. Sylvan Way Library, 1301 Sylvan Way, Bremerton, WA 98310; and

6. Seattle Central Library, 1000 Fourth Avenue, Seattle, WA 98104.

The TRIDENT Support Facilities EHW-2 Draft EIS is also available for electronic public viewing at: http://ehw.nbkeis.com. A paper copy of the executive summary or a single compact disc of the Draft EIS will be made available upon written request by contacting Naval Facilities Engineering Command Northwest, Attention: Ms. Christine Stevenson, EHW-2 EIS Project Manager, 1101 Tautog Circle, Silverdale, WA 98315-1101.

Federal, State, and local agencies, elected officials, and interested individuals and organizations are invited to be present or represented at the public hearings. Written comments can also be submitted during the open house sessions preceding the public hearings. Oral statements will be heard and transcribed by a court reporter; however, to ensure the accuracy of the record it is encouraged that all statements should also be submitted in writing. All statements, both oral and written, will become part of the public record on the Draft EIS and will be responded to in the Final EIS. Equal weight will be given to both oral and written statements. In the interest of available time, and to ensure all who wish to give an oral statement have the opportunity to do so, each speaker's comments will be limited to three (3) minutes. If a long statement is to be presented, it should be summarized at the public hearing with the full text submitted either in writing at the hearing or mailed to Naval Facilities Engineering Command Northwest, Attention: Ms. Christine Stevenson, EHW-2 EIS Project Manager, 1101 Tautog Circle, Silverdale, WA 98315-1101. Comments may also be submitted online at http://ehw.nbkeis.com/ during the comment period. All written comments must be postmarked by May 2, 2011, to ensure they become part of the official record. All comments will be addressed in the Final EIS.

Dated: 14 March 2011.
D.J. Werner,
Lieutenant Commander, Judge Advocate General's Corps, U.S. Navy, Federal Register Liaison Officer.

[FR Doc. 2011-6518 Filed 3-18-11; 8:45 am]

BILLING CODE 3810-FF-P